DEPARTMENT OF TRANSPORTATION

Office of the Secretary

[Docket OST-02-14071]

Application of Westward Airways, Inc. for Certificate Authority

AGENCY: Department of Transportation.

ACTION: Notice of order to show cause (Order 2003-3-10).

SUMMARY: The Department of Transportation is directing all interested persons to show cause why it should not issue an order finding Westward Airways, Inc., fit, willing, and able, and awarding it a certificate of public convenience and necessity to engage in interstate scheduled air transportation of persons, property and mail using aircraft having 9 passenger seats or less.

DATES: Persons wishing to file objections should do so no later than April 1, 2003.

ADDRESSES: Objections and answers to objections should be filed in Docket OST-02-14071 and addressed to the Department of Transportation Dockets (M-30, Room PL-401), U.S. Department of Transportation, 400 Seventh Street, SW., Washington, DC 20590, and should be served upon the parties listed in Attachment A to the order.

FOR FURTHER INFORMATION CONTACT: Mr. Howard Serig, Air Carrier Fitness Division (X-56, Room 6401), U.S. Department of Transportation, 400 Seventh Street, SW., Washington, DC 20590, (202) 366-4822.

Dated: March 19, 2003.
Read C. Van De Water,
Assistant Secretary for Aviation and International Affairs.

[FR Doc. 03-7083 Filed 3-24-03; 8:45 am]

BILLING CODE 4910-62-P